DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Date and Time: January 27, 2014 (8:30 a.m.-5:00 p.m.). January 28, 2014 (8:30 a.m.-5:00 p.m.).

Place: Combined In-Person and Webinar Format, Health Resources and Services Administration (HRSA), U.S. Department of Health and Human Services, 5600 Fishers Lane, Room 18-57, Rockville, Maryland 20857.

Status: The meeting will be open to the public.

Purpose: The COGME provides advice and recommendations to the Secretary of the Department of Health and Human Services and to Congress on a range of issues including the supply and distribution of physicians in the United States, current and future physician shortages or excesses, issues relating to foreign medical school graduates, the nature and financing of medical education training, and the development of performance measures and longitudinal evaluation of medical education programs.

Agenda: The meeting will begin with opening remarks from HRSA senior officials and updates on HRSA-specific programs related to the physician workforce. The Council will also discuss recent developments in the physician workforce and in graduate medical education. However, a large portion of the meeting will be devoted to developing recommendations and an outline for their next report. Reports are submitted to the Secretary of the Department of Health and Human Services; the Committee on Health, Education, Labor and Pensions of the Senate; and the Committee on Energy and Commerce of the House of Representatives.

Public Comment: An opportunity will be provided for public comment at the end of each day of the meeting, or written comments to the members may be sent prior to the meeting to Shane Rogers at srogers@hrsa.gov.

The official agenda will be available 2 days prior to the meeting on the HRSA Web site (http://www.hrsa.gov/advisorycommittees/bhpradvisory/cogme/index.html). Agenda items are subject to change as priorities dictate.

SUPPLEMENTARY INFORMATION: As this meeting will be a combined format of both in-person and webinar, members of the public and interested parties who wish to participate “in-person” should make an immediate request by emailing their first name, last name, and contact email address to the Designated Federal Official for the Council, Mr. Shane Rogers, at srogers@hrsa.gov or call 301-443-5260. Space is limited. Due to the fact that this meeting will be held within a federal government building, and public entrance to such facilities requires prior planning, access will be granted upon request only and will be on a first come, first served basis. Members of the public who wish to participate via webinar should view the Council's Web site for the specific webinar access information at least two days prior to the date of the meeting: http://www.hrsa.gov/advisorycommittees/bhpradvisory/cogme/index.html.

FOR FURTHER INFORMATION CONTACT: Anyone requesting information regarding the COGME should contact Mr. Shane Rogers, the Designated Federal Official within the Bureau of Health Professions, Health Resources and Services Administration, in one of the following three ways: (1) Send a request to the following address: Shane Rogers, Designated Federal Official, Bureau of Health Professions, Health Resources and Services Administration, Parklawn Building, Room 9A-27, 5600 Fishers Lane, Rockville, Maryland 20857; (2) call 301-443-5260; or (3) send an email to srogers@hrsa.gov.

Dated: December 30, 2013.
Bahar Niakan,
Director, Division of Policy and Information Coordination.

[FR Doc. 2013-31588 Filed 1-6-14; 8:45 am]

BILLING CODE 4165-15-P